NUCLEAR REGULATORY COMMISSION

[NRC-2009-0314; Docket No. 50-461]

Exelon Generation Company, LLC; Notice of Withdrawal of Application for Amendment to Facility Operating License

The U.S. Nuclear Regulatory Commission (the Commission) has granted the request of Exelon Generation Company, LLC (the licensee) to withdraw its June 15, 2009 (Agencywide Documents Access and Management System (ADAMS) Accession No. ML091660580), application for proposed amendment to Facility Operating License No. NPF-62 for the Clinton Power Station, Unit No. 1, located in DeWitt County.

The proposed amendment would have eliminated the requirement for main steamline isolations on high turbine building temperatures from Technical Specifications Section 3.3.6.1, “Primary Containment and Drywell Isolation Instrumentation,” Table 3.3.6.1-1.

The Commission had previously issued a Notice of Consideration of Issuance of Amendment published in the Federal Register on July 16, 2009 (74 FR 34594-34596). However, by letter dated August 4, 2009, the licensee withdrew the proposed change.

For further details with respect to this action, see the application for amendment dated June 15, 2009, and the licensee's letter dated August 4, 2009 (ADAMS Accession No. ML092170159), which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 2nd day of September 2009.
For the Nuclear Regulatory Commission.
Cameron S. Goodwin,
Project Manager, Plant Licensing Branch III-2, Division of Operating Reactor Licensing Office of Nuclear Reactor Regulation.

[FR Doc. E9-21976 Filed 9-10-09; 8:45 am]

BILLING CODE 7590-01-P